DEPARTMENT OF THE TREASURY

Internal Revenue Service

26 CFR Part 1

[REG-102740-02]

RIN 1545-BA52

Loss Limitation Rules; Hearing Cancellation

AGENCY: Internal Revenue Service (IRS), Treasury.

ACTION: Cancellation of notice of public hearing on proposed rulemaking.

SUMMARY: This document cancels the public hearing on proposed regulations that relate to the deductibility of losses recognized on dispositions of subsidiary stock by members of a consolidated group.

DATES: The public hearing originally scheduled for Friday, July 19, 2002, at 10 a.m., is cancelled.

FOR FURTHER INFORMATION CONTACT: LaNita Van Dyke of the Regulations Unit, Associate Chief Counsel (Income Tax and Accounting), (202) 622-7190 (not a toll-free number).

SUPPLEMENTARY INFORMATION: A notice of proposed rulemaking and notice of public hearing that appeared in the Federal Register on Tuesday, March 12, 2002 (67 FR 11070), announced that a public hearing would be held on July 17, 2002. The date of the hearing changed and notice of the change was later published in the Federal Register on Friday, June 28, 2002 (67 FR 43574) announcing that a public hearing was scheduled for Friday, July 19, 2002, at 10 a.m., in room 2615, Internal Revenue Building, 1111 Constitution Avenue, NW., Washington, DC. The subject of the public hearing is proposed regulations under sections 337(d) and 1502 of the Internal Revenue Code. The public comment period for these proposed regulations expired on Wednesday, June 26, 2002.

The notice of proposed rulemaking and notice of public hearing, instructed those interested in testifying at the public hearing to submit a request to speak and an outline of the topics to be addressed. As of Thursday, July 11, 2002, no one has requested to speak. Therefore, the public hearing scheduled for Friday, July 19, 2002, is cancelled.

Cynthia Grigsby,
Chief, Regulations Unit, Associate Chief Counsel (Income Tax and Accounting).

[FR Doc. 02-17864 Filed 7-11-02; 3:09 pm]

BILLING CODE 4830-01-U